DEPARTMENT OF THE INTERIOR

Bureau of Land Management

[IDI-36712]

Notice of Proposed Withdrawal and Opportunity for Public Meeting; Idaho

AGENCY: Bureau of Land Management, Interior.

ACTION: Notice.

SUMMARY: The Forest Service (FS) has filed an application with the Bureau of Land Management (BLM) requesting the Assistant Secretary of the Interior for Land and Minerals Management to withdraw 10 acres of public land adjacent to the Clearwater National Forest from mining to protect the Lenore Tree Improvement Area near Orofino, Idaho and adjacent to the Clearwater River. This notice segregates the land for up to 2 years from settlement, sale, location or entry under the United States mining laws. The land will remain open to mineral leasing and to all activities currently consistent with applicable Forest plans and those related to the exercise of valid existing rights. This parcel of land has been withdrawn for FS use since 1990 for genetic seedling testing purposes. This proposed withdrawal covers the same 10 acres that were withdrawn for FS use under Public Land Order (PLO) No. 6799, BLM Serial Number IDI-26701, published on Friday, September 14, 1990 in the Federal Register (55 FR 37878). Due to an administrative oversight on the part of the FS, PLO 6799 expired before an extension of the withdrawal can be processed. Therefore, the FS is requesting a new 20-year withdrawal covering the same area.

DATES: Comments and request for a public meeting must be received by March 2, 2011.

ADDRESSES: Comments and meeting requests should be sent to the Forest Supervisor, Clearwater National Forest, 12730 Highway 12, Orofino, Idaho 83544.

FOR FURTHER INFORMATION CONTACT: Laura Summers, BLM Idaho State Office, 208-373-3866 or Scott Bixler, Forest Service, (406) 329-3655.

SUPPLEMENTARY INFORMATION: The FS has filed an application to withdraw the following described public land from settlement, sale, location and entry under the United States mining laws, subject to valid existing rights:

Boise Meridian

Clearwater National Forest

T. 37 N., R. 1 W.,

Sec. 32, N½S½NW¼SW¼.

The area described contains 10.00 acres in Nez Perce County, Idaho.

For a period of 2 years from December 2, 2010, the land will be segregated from settlement, sale, location and entry under the United States mining laws unless the application is denied or canceled or the withdrawal is approved prior to that date. The temporary land uses which may be permitted during this segregative period include activities currently consistent with applicable plans and those related to the exercise of valid existing rights, including public recreation and other activities compatible with preservation of the character of the area.

The application will be processed in accordance with the regulations set forth in 43 CFR 2300.

For a period of 90 days from the date of publication of this notice, all persons who wish to submit comments, suggestions, or objections in connection with the proposed withdrawal may present their views in writing to the Forest Supervisor, Clearwater National Forest, at the address indicated above.

The use of a right-of-way, interagency agreement, cooperative agreement or surface management under 43 CFR 3809 would not adequately constrain non-discretionary uses that could irrevocably affect the use of the lands for mining purposes.

No water rights would be needed to fulfill the purpose of the requested withdrawal.

Notice is hereby given that an opportunity for a public meeting is afforded in connection with the proposed withdrawal. All interested persons who desire a public meeting for the purpose of being heard on the proposed withdrawal must submit a written request to the Forest Supervisor at the address indicated above by March 2, 2011. Upon determination by the authorized officer that a public meeting will be held, a notice of the time and place will be published in the Federal Register and a newspaper having a general circulation in the vicinity of the land at least 30 days before the scheduled date of the meeting.

Records relating to the application may be examined by interested parties at the address of the Clearwater National Forest Office stated above.

Comments, including names and street addresses for respondents, will be available for public review at the Clearwater National Forest Office during regular business hours, 7:30 a.m. to 4 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority: 43 U.S.C. 1714.

Jerry L. Taylor,
Chief, Branch of Lands, Minerals and Water Rights, Resource Services Division.

[FR Doc. 2010-30304 Filed 12-1-10; 8:45 am]

BILLING CODE 3410-11-P